DEPARTMENT OF TRANSPORTATION

Pipeline and Hazardous Materials Safety Administration

[Docket No. PHMSA-2018-0078]

Pipeline Safety: Information Collection Activities, Revision to OPID Assignment Request and National Registry Notification

AGENCY: Pipeline and Hazardous Materials Safety Administration (PHMSA), DOT.

ACTION: Notice and request for comments.

SUMMARY: PHMSA is preparing to request Office of Management and Budget (OMB) approval for the revision of the Operator Assignment Request (PHMSA F 1000.1) and National Registry Notification (PHMSA F 1000.2) currently approved under OMB control number 2137-0627. PHMSA proposes revising certain parts of the forms and instructions. In accordance with the Paperwork Reduction Act of 1995, PHMSA invites comments on the proposed revisions.

DATES: Interested persons are invited to submit comments on or before October 9, 2018.

ADDRESSES: Comments may be submitted in the following ways:

E-Gov Website: http://www.regulations.gov. This site allows the public to enter comments on any Federal Register notice issued by any agency.

Fax: 1-202-493-2251.

Mail: Docket Management Facility, U.S. Department of Transportation (DOT), 1200 New Jersey Avenue SE, West Building, Room W12-140, Washington, DC 20590-0001.

Hand Delivery: Room W12-140 on the ground level of DOT, West Building, 1200 New Jersey Avenue SE, Washington, DC, between 9:00 a.m. and 5:00 p.m., Monday through Friday, except Federal holidays.

Instructions: Identify the docket number, PHMSA-2018-0078, at the beginning of your comments. Note that all comments received will be posted without change to http://www.regulations.gov, including any personal information provided. You should know that anyone can search the electronic form of all comments received into any of our dockets by the name of the individual submitting the comment (or signing the comment, if submitted on behalf of an association, business, labor union, etc.). Therefore, you may want to review DOT's complete Privacy Act Statement in the Federal Register published on April 11, 2000, (65 FR 19476) or visit http://www.regulations.gov before submitting any such comments.

Docket: For access to the docket or to read background documents or comments, go to http://www.regulations.gov at any time or to Room W12-140 on the ground level of DOT, West Building, 1200 New Jersey Avenue SE, Washington, DC, between 9:00 a.m. and 5:00 p.m., Monday through Friday, except Federal holidays. If you wish to receive confirmation of receipt of your written comments, please include a self-addressed, stamped postcard with the following statement: Comments on: PHMSA-2018-0078.” The docket clerk will date stamp the postcard prior to returning it to you via the U.S. mail. Please note that due to delays in the delivery of U.S. mail to Federal offices in Washington, DC, we recommend that persons consider an alternative method (internet, fax, or professional delivery service) of submitting comments to the docket and ensuring their timely receipt at DOT.

FOR FURTHER INFORMATION CONTACT: Angela Dow by telephone at 202-366-1246, by fax at 202-366-4566, or by mail at DOT, PHMSA, 1200 New Jersey Avenue SE, PHP-30, Washington, DC 20590-0001.

SUPPLEMENTARY INFORMATION:

A. Background

Section 1320.8(d), Title 5, Code of Federal Regulations, requires PHMSA to provide interested members of the public and affected agencies an opportunity to comment on information collection and recordkeeping requests. This notice identifies an information collection revision request PHMSA will be submitting to OMB for approval.

B. OPID Assignment Request

PHMSA intends to revise the OPID Assignment Request (PHMSA F 1000.1) form and its instructions. PHMSA proposes adding “Underground Natural Gas Storage” as an additional facility type in step 2 of the form. During fiscal year 2018, PHMSA began partnering with state agencies to inspect and enforce PHMSA regulations for underground natural gas storage facilities. Adding “Underground Natural Gas Storage” as an additional facility type is essential for routing the request to the proper state agency.

PHMSA proposes collecting the state and number of miles when a request includes liquefied petroleum gas (LPG) facilities serving fewer than 100 customers from a single source. Collecting the state for LPG facilities is crucial to determining which PHMSA region or state agency should receive the request.

There are eight safety programs in step 3 of the request, but only three apply to underground natural gas storage facilities. PHMSA proposes modifying step 3 to indicate the safety programs required for underground natural gas storage facilities.

PHMSA proposes modifying the instructions to explain PHMSA's past actions for small LPG and master meter operators and future expectations for these operators. Adding this information to the instructions would provide clarity for operators and state agencies inspecting the operators.

C. National Registry Notification

PHMSA intends to revise the National Registry Notification form (PHMSA F 1000.2) and its instructions. PHMSA proposes changing the name of the form from “Operator Registry Notification” to “National Registry Notification” to match the wording of the PHMSA regulations requiring the notifications.

PHMSA proposes adding “Underground Natural Gas Storage” as an additional facility type in steps 1 and 3 of the form. During fiscal year 2018, PHMSA began partnering with additional state agencies to inspect and enforce PHMSA regulations for underground natural gas storage facilities. Adding “Underground Natural Gas Storage” as an additional facility type is essential for routing the notification to the proper state agency.

There are eight safety programs in a type C notification, but only three apply to underground natural gas storage facilities. PHMSA proposes modifying the type C portion of the form to indicate the safety programs required for underground natural gas storage facilities.

Operators report various types of construction projects to PHMSA in type F notifications. PHMSA proposes adding a single-select field to describe the main purpose of the construction project.

The type J notification section assumes that all LNG construction builds new facilities. PHMSA proposes modifying the type J section to recognize that a notification may be submitted for rehabilitation or replacement of LNG facilities.

In step 3 of the form, PHMSA collects data about the location of the facilities covered by the notification. When the notification covers onshore gas gathering, gas transmission, or hazardous liquid pipelines, step 3 data includes the county(ies) for the pipelines. PHMSA uses this county data to associate the notification to a specific portion of the operator's pipeline system. When the notification covers onshore gas gathering, gas transmission, hazardous liquid facilities, or offshore pipelines or facilities, county data is not collected. PHMSA proposes modifying the form to collect county data for onshore gas gathering, gas transmission, and hazardous liquid facilities, and offshore pipelines and facilities. This change would allow PHMSA to associate each notification to a specific portion of the operator's pipeline system.

D. Summary of Impacted Collections

The following information is provided below for the impacted information collection: (1) Title of the information collection; (2) OMB control number; (3) Current expiration date; (4) Type of request; (5) Abstract of the information collection activity; (6) Description of affected public; (7) Estimate of total annual reporting and recordkeeping burden; and (8) Frequency of collection.

PHMSA requests comments on the following information collection:

Title: National Registry of Pipeline and Liquefied Natural Gas Operators.

OMB Control Number: 2137-0627.

Current Expiration Date: 7/31/2020.

Type of Request: Revision.

Abstract: The National Registry of Pipeline and LNG Operators serves as the storehouse for the reporting requirements for an operator regulated or subject to reporting requirements under 49 CFR part 192, 193, or 195. This registry incorporates the use of two forms: (1) OPID Assignment Request (PHMSA F 1000.1) and (2) National Registry Notification (PHMSA F 1000.2). The burden estimate for this information collection is increasing by 10 responses and 10 burden hours to account for PHMSA F 1000.2 Part F notifications.

Affected Public: Operators of Pipeline Facilities.

Annual Reporting and Recordkeeping Burden:

Total Annual Responses: 689.

Total Annual Burden Hours: 689.

Frequency of Collection: On occasion.

Comments are invited on:

(a) The need for the proposed collection of information, including whether the information will have practical utility in helping the agency to achieve its pipeline safety goals;

(b) The accuracy of the agency's estimate of the burden of the proposed collection of information;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended; and 49 CFR 1.48.

Issued in Washington, DC on August 3, 2018, under authority delegated in 49 CFR 1.97.
Alan K. Mayberry,
Associate Administrator for Pipeline Safety.

[FR Doc. 2018-17052 Filed 8-8-18; 8:45 am]

BILLING CODE 4910-60-P